DEPARTMENT OF TRANSPORTATION

Federal Aviation Administration

14 CFR Part 39

[Docket No. FAA-2020-1167; Project Identifier AD-2020-01007-T; Amendment 39-21504; AD 2021-08-10]

RIN 2120-AA64

Airworthiness Directives; The Boeing Company Airplanes

AGENCY: Federal Aviation Administration (FAA), DOT.

ACTION: Final rule.

SUMMARY: The FAA is adopting a new airworthiness directive (AD) for all The Boeing Company Model DC-10-10, DC-10-10F, DC-10-15, DC-10-30, DC-10-30F (KC-10A and KDC-10), DC-10-40 and DC-10-40F airplanes; and Model MD-10-10F and MD-10-30F airplanes. This AD was prompted by a report that an operator found a crack in the upper flange of the pylon aft bulkhead bracket. This AD requires a general visual inspection of the left and right wing pylon at the aft bulkhead bracket for any lockbolt and collar; repetitive surface and open hole eddy current high frequency (ETHF) inspections of the left and right wing pylon at the aft bulkhead bracket for any cracking; and applicable on-condition actions. The FAA is issuing this AD to address the unsafe condition on these products.

DATES: This AD is effective May 25, 2021.

The Director of the Federal Register approved the incorporation by reference of a certain publication listed in this AD as of May 25, 2021.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available at https://www.regulations.gov by searching for and locating Docket No. FAA-2020-1167.

Examining the AD Docket

You may examine the AD docket at https://www.regulations.gov by searching for and locating Docket No. FAA-2020-1167; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Manuel Hernandez, Aerospace Engineer, Airframe Section, FAA, Los Angeles ACO Branch, 3960 Paramount Boulevard, Lakewood, CA 90712-4137; phone: 562-627-5256; fax: 562-627-5210; email: Manuel.F.Hernandez@faa.gov.

SUPPLEMENTARY INFORMATION:

Background

The FAA issued a notice of proposed rulemaking (NPRM) to amend 14 CFR part 39 by adding an AD that would apply to all The Boeing Company Model DC-10-10, DC-10-10F, DC-10-15, DC-10-30, DC-10-30F (KC-10A and KDC-10), DC-10-40 and DC-10-40F airplanes; and Model MD-10-10F and MD-10-30F airplanes. The NPRM published in the Federal Register on January 15, 2021 (86 FR 3885). The NPRM was prompted by a report that an operator found a crack in the upper flange of the pylon aft bulkhead bracket. In the NPRM, the FAA proposed to require a general visual inspection of the left and right wing pylon at the aft bulkhead bracket for any lockbolt and collar; repetitive surface and open hole ETHF inspections of the left and right wing pylon at the aft bulkhead bracket for any cracking; and applicable on-condition actions. The FAA is issuing this AD to address possible cracking of the wing pylon at the aft bulkhead bracket, which could result in the inability of the pylon to sustain limit load and adversely affect the structural integrity of the airplane.

Discussion of Final Airworthiness Directive

Comments

The FAA received a comment from The Air Line Pilots Association, International (ALPA) who supported the NPRM without change.

Conclusion

The FAA reviewed the relevant data, considered any comments received, and determined that air safety requires adopting this AD as proposed. Except for minor editorial changes, this AD is adopted as proposed in the NPRM. None of the changes will increase the economic burden on any operator.

Related Service Information Under 1 CFR Part 51

The FAA reviewed Boeing Alert Requirements Bulletin DC10-54A111 RB, dated June 26, 2020. The service information describes procedures for a general visual inspection of the left and right wing pylon at the aft bulkhead bracket for any lockbolt and collar; repetitive surface and open hole ETHF inspections of the left and right wing pylon at the aft bulkhead bracket for any cracking; and applicable on-condition actions. On-condition actions include modifying any aft bulkhead bracket that has a lockbolt and collar, and repair or replacement of the aft bulkhead bracket.

This service information is reasonably available because the interested parties have access to it through their normal course of business or by the means identified in ADDRESSES.

Costs of Compliance

The FAA estimates that this AD affects 103 airplanes of U.S. registry. The FAA estimates the following costs to comply with this AD:

Estimated Costs for Required Actions
Action | Labor cost | Parts cost | Cost per product | Cost on U.S. operators
General visual inspection | 2 work-hours × $85 per hour = $170 | $0 | $170 | $17,510.
Surface and open hole ETHF inspections | 5 work-hours × $85 per hour = $425 per inspection cycle | 0 | $425 per inspection cycle | $8,755 per inspection cycle.

The FAA estimates the following costs to do any necessary on-condition modifications that would be required. The FAA has no way of determining the number of aircraft that might need these on-condition modifications:

Estimated Costs of On-Condition Actions
Labor cost | Parts cost | Cost per product
1 work-hour × $85 per hour = $85 per lockbolt/collar (maximum of 8 lockbolt/collars) | $100 per lockbolt/collar | $185 per lockbolt/collar.

The FAA has received no definitive data on which to base the cost estimates for the on-condition repairs and replacements specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-08-10 The Boeing Company: Amendment 39-21504; Docket No. FAA-2020-1167; Project Identifier AD-2020-01007-T.

(a) Effective Date

This airworthiness directive (AD) is effective May 25, 2021.

(b) Affected ADs

None.

(c) Applicability

This AD applies to all The Boeing Company airplanes specified in paragraphs (c)(1) through (5) of this AD, certificated in any category.

(1) Model DC-10-10 and DC-10-10F airplanes.

(2) Model DC-10-15 airplanes.

(3) Model DC-10-30 and DC-10-30F (KC-10A and KDC-10) airplanes.

(4) Model DC-10-40 and DC-10-40F airplanes.

(5) Model MD-10-10F and MD-10-30F airplanes.

(d) Subject

Air Transport Association (ATA) of America Code 54, Nacelles/pylons.

(e) Unsafe Condition

This AD was prompted by a report that an operator found a crack in the upper flange of the pylon aft bulkhead bracket. The FAA is issuing this AD to address possible cracking of the wing pylon at the aft bulkhead bracket, which could result in the inability of the pylon to sustain limit load and adversely affect the structural integrity of the airplane.

(f) Compliance

Comply with this AD within the compliance times specified, unless already done.

(g) Required Actions

Except as specified by paragraph (h) of this AD: At the applicable times specified in the “Compliance” paragraph of Boeing Alert Requirements Bulletin DC10-54A111 RB, dated June 26, 2020, do all applicable actions identified in, and in accordance with, the Accomplishment Instructions of Boeing Alert Requirements Bulletin DC10-54A111 RB, dated June 26, 2020.

Note 1 to paragraph (g): Guidance for accomplishing the actions required by this AD can be found in Boeing Alert Service Bulletin DC10-54A111, dated June 26, 2020, which is referred to in Boeing Alert Requirements Bulletin DC10-54A111 RB, dated June 26, 2020.

(h) Exceptions to Service Information Specifications

(1) Where Boeing Alert Requirements Bulletin DC10-54A111 RB, dated June 26, 2020, uses the phrase “the original issue date of Requirements Bulletin DC10-54A111 RB,” this AD requires using “the effective date of this AD.”

(2) Where Boeing Alert Requirements Bulletin DC10-54A111 RB, dated June 26, 2020, specifies contacting Boeing for repair, modification, or replacement instructions: This AD requires doing the repair, modification, or replacement using a method approved in accordance with the procedures specified in paragraph (i) of this AD.

(i) Alternative Methods of Compliance (AMOCs)

(1) The Manager, Los Angeles ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j)(1) of this AD. Information may be emailed to: 9-ANM-LAACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(j) Related Information

(1) For more information about this AD, contact Manuel Hernandez, Aerospace Engineer, Airframe Section, FAA, Los Angeles ACO Branch, 3960 Paramount Boulevard, Lakewood, CA 90712-4137; phone: 562-627-5256; fax: 562-627-5210; email: Manuel.F.Hernandez@faa.gov.

(2) Service information identified in this AD that is not incorporated by reference is available at the addresses specified in paragraphs (k)(3) and (4) of this AD.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Requirements Bulletin DC10-54A111 RB, dated June 26, 2020.

(ii) [Reserved]

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on April 1, 2021.
Lance T. Gant,
Director, Compliance & Airworthiness Division, Aircraft Certification Service.

[FR Doc. 2021-08055 Filed 4-19-21; 8:45 am]

BILLING CODE 4910-13-P